DEPARTMENT OF DEFENSE

Defense Acquisition Regulations System

48 CFR Parts 206, 217, 219, and 252

[Docket DARS-2024-0001]

Defense Federal Acquisition Regulation Supplement; Technical Amendments

AGENCY: Defense Acquisition Regulations System, Department of Defense (DoD).

ACTION: Final rule; technical amendment.

SUMMARY: DoD is amending the Defense Federal Acquisition Regulation Supplement (DFARS) to make needed editorial changes.

DATES: Effective January 17, 2025.

FOR FURTHER INFORMATION CONTACT: Ms. Jennifer D. Johnson, Defense Acquisition Regulations System, telephone 703-717-8226.

SUPPLEMENTARY INFORMATION: This final rule amends the DFARS to make needed editorial changes to comply with DFARS drafting conventions.

List of Subjects in 48 CFR Parts 206, 217, 219, and 252

Government procurement.

Jennifer D. Johnson,
Editor/Publisher, Defense Acquisition Regulations System.

Therefore, the Defense Acquisition Regulations System amends 48 CFR parts 206, 217, 219, and 252 as follows:

1. The authority citation for 48 CFR parts 206, 217, 219, and 252 continues to read as follows:

Authority: 41 U.S.C. 1303 and 48 CFR chapter 1.

PART 206—COMPETITION REQUIREMENTS

206.303-1 [Amended]

2. Amend section 206.303-1 in paragraphs (b) introductory text and (b)(1) by removing “sole source” and adding “sole-source” in its place.

PART 217—SPECIAL CONTRACTING METHODS

3. Amend section 217.172 by revising paragraph (f)(2) to read as follows:

217.172 Multiyear contracts for supplies.

* * * * *

(f) * * *

(2) In addition, for contracts equal to or greater than $750 million, the head of the contracting activity must determine that the conditions required by paragraphs (h)(2)(i) through (vii) of this section will be met by such contract, in accordance with the Secretary's certification and determination required by paragraph (h)(2) of this section.

* * * * *

PART 219—SMALL BUSINESS PROGRAMS

219.808-1 [Amended]

4. Amend section 219.808-1 in the introductory text by removing “sole source” and adding “sole-source” in its place.

PART 252—SOLICITATION PROVISIONS AND CONTRACT CLAUSES

5. Amend section 252.225-7003—

a. By revising the provision heading and date;

b. In paragraphs (b) introductory text and (b)(2) introductory text, by removing “offeror” wherever it appears and adding “Offeror” in its place; and

c. In paragraphs (d) introductory text and (e), by removing “offeror” and adding “Offeror” in its place.

The revisions read as follows:

252.225-7003 Report of Intended Performance Outside the United States and Canada—Submission with Offer.

* * * * *

REPORT OF INTENDED PERFORMANCE OUTSIDE THE UNITED STATES AND CANADA—SUBMISSION WITH OFFER (JAN 2025)

* * * * *

[FR Doc. 2024-31569 Filed 1-16-25; 8:45 am]

BILLING CODE 6001-FR-P